DEPARTMENT OF TRANSPORTATION

Federal Highway Administration

Notice of Final Federal Agency Action on the Red Rock Trail and Intersection Improvements Project—Phase 1 in Nevada

AGENCY: Federal Highway Administration (FHWA), U.S. Department of Transportation.

ACTION: Notice of limitation on claims for judicial review of actions by FHWA and other Federal agencies.

SUMMARY: This notice announces actions taken by FHWA and other Federal agencies that are final. This final agency actions relate to a proposed trail project in Clark County, Nevada. The FHWA's Finding of No Significant Impact (FONSI) provides details on the proposed action.

DATES: By this notice, FHWA is advising the public of final agency actions subject to 23 U.S.C. 139(l)(1). A claim seeking judicial review of the Federal agency actions on the Red Rock Trail and Intersection Improvements Project—Phase 1 will be barred unless the claim is filed on or before December 20, 2024. If the Federal law that authorizes judicial review of a claim provides a time period of less than 150 days for filing such claim, then that shorter time period still applies.

FOR FURTHER INFORMATION CONTACT: Emilio Burgos, Project Manager, Federal Highway Administration, Central Federal Lands Highway Division, 12300 W Dakota Avenue, Suite 380, Lakewood, Colorado 80228; telephone: (720) 963-3639, email: Emilio.Burgos@dot.gov. Regular office hours are Monday through Friday, 8:00 a.m. to 5:00 p.m. (Mountain Time).

SUPPLEMENTARY INFORMATION: Notice is hereby given that FHWA has taken a final agency action by issuing a FONSI and approving the Red Rock Trail and Intersection Improvements Project—Phase 1 in Clark County, Nevada.

The FHWA project includes constructing a two-span 205-foot long and 18-foot-wide pedestrian bridge across the Red Rock Wash, parallel to the existing SR-159 bridge; constructing approximately one mile of multi-use trail; constructing new deceleration lanes on SR-159; and building a new 10,000-square-foot asphalt overlook parking area.

The FHWA's action, related actions by other Federal agencies, and the laws under which such actions were taken, are described in the Bureau of Land Management (BLM) Environmental Assessment (EA), DOI-BLM-NV-S020-2021-0008-EA; BLM FONSI, dated March 22, 2024; FHWA's FONSI, dated July 17 2024; and other documents in the project file. The BLM EA and FONSI are available for download at the BLM National NEPA Register at https://www.eplanning.blm.gov. The FHWA FONSI is available for download at https://highways.dot.gov/federal-lands/projects or can be requested by contacting FHWA at the address provided above.

This notice applies to all Federal agency decisions as of the issuance date of this notice and all laws under which such actions were taken, including by not limited to:

1. General: National Environmental Policy Act [42 U.S.C. 4321-4351]; Federal-Aid Highway Act [23 U.S.C. 139].

2. Air: Clean Air Act [42 U.S.C. 7401-7671(q)].

3. Land: Section 4(f) of the Department of Transportation Act of 1966 [49 U.S.C. 303].

4. Wildlife: Endangered Species Act [16 U.S.C. 1531-1544 and Section 1536], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996].

7. Wetlands and Water Resources: Clean Water Act (Sections 401, 402, and 404) [33 U.S.C. 1251-1377]; Safe Drinking Water Act [42 U.S.C. 300(f)-300(j)(6)]; Flood Disaster Protection Act [42 U.S.C. 4001-4128].

8. Hazardous Materials: Comprehensive Environmental Response, Compensation, and Liability Act [42 U.S.C. 9601-9675]; Superfund Amendments and Reauthorization Act of 1986; Resource Conservation and Recovery Act [42 U.S.C. 6901-6992(k)].

9. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction.)

Authority: 23 U.S.C. 139 (l)(1).

Judy Salomonson,
Chief of Business Operations, Federal Highway Administration, Lakewood, Colorado.

[FR Doc. 2024-16117 Filed 7-22-24; 8:45 am]

BILLING CODE 4910-RY-P